DEPARTMENT OF LABOR

Employment and Training Administration

[TA-W-41,699]

Liberty Sportswear, Inc., Jean Michael's Inc., Riverview, Willingboro, New Jersey; Amended Certification Regarding Eligibility To Apply for Worker Adjustment Assistance

In accordance with section 223 of the Trade Act of 1974 (19 U.S.C. 2273) the Department of Labor issued a Certification of Eligibility to Apply for Worker Adjustment Assistance on August 26, 2002, applicable to workers of Liberty Sportswear, Inc., a Division of Jean Michael's Inc. located in Willingboro, New Jersey. The notice was published in the Federal Register on September 10, 2002 (FR 67 57456).

At the request of the State agency, the Department reviewed the certification for workers of the subject firm. The workers are engaged in the production of women's skirts. New information shows that workers of Riverview, under the same Liberty Sportswear umbrella were inadvertently excluded from the certification. Accordingly, the Department is amending the certification to include workers of Riverview.

The intent of the Department's certification is to include all workers of Liberty Sportswear, Inc., Willingboro, New Jersey, who were adversely affected by increased imports.

The amended notice applicable to TA-W-41,699 is hereby issued as follows:

“All workers of Liberty Sportswear, Inc., Jean Michael's Inc., and Riverview, Willingboro, New Jersey, who became totally or partially separated from employment on or after June 3, 2001, through August 26, 2004, are eligible to apply for adjustment assistance under section 223 of the Trade Act of 1974.”

Signed at Washington, DC, this 26th day of November 2002.
Linda G. Poole,
Certifying Officer, Division of Trade Adjustment Assistance.

[FR Doc. 02-31062 Filed 12-6-02; 8:45 am]

BILLING CODE 4510-30-P